DEPARTMENT OF LABOR

Employment and Training Administration

[TA-W-59,444]

Ericsson Inc.; Brea, CA; Notice of Termination of Investigation

Pursuant to Section 221 of the Trade Act of 1974, an investigation was initiated on May 23, 2006 in response to a worker petition which was filed by a company official on behalf of workers at Ericsson Inc., Brea, California.

The petitioner has requested that the petition be withdrawn. Consequently, the investigation has been terminated.

Signed in Washington, DC, this 30th day of May, 2006.
Richard Church,
Certifying Officer, Division of Trade Adjustment Assistance.

[FR Doc. E6-9991 Filed 6-23-06; 8:45 am]

BILLING CODE 4510-30-P